DEPARTMENT OF THE INTERIOR

Bureau of Land Management

[CA-670-01-1610-JP-064B]

Revocation of Temporary Closure of Parts of the Imperial Sand Dunes Recreation Management Area to Off-Highway Vehicles and Other Vehicular Use in Compliance With Court-Approved Stipulations Resulting From a Lawsuit Involving the Endangered Species Act

AGENCY: Bureau of Land Management, Interior.

ACTION: Notice of closure.

DATES: The temporary closure implemented November 16, 2000 (65 FR 69324) is revoked upon the publication of this notice.

ADDRESSES: Bureau of Land Management, El Centro Field Office, 1661 S. 4th Street, El Centro , CA 92243

FOR ADDITIONAL INFORMATION CONTACT: Roxie Trost, BLM, El Centro Field Office, 1661 S. 4th Street, El Centro, CA 92243, telephone (760) 337-4400.

SUPPLEMENTARY INFORMATION: Revocation of temporary closure of parts of the Imperial Sand Dunes Recreation Management Area to off-highway vehicles and other vehicular use in compliance with court-approved stipulations resulting from a lawsuit involving the Endangered Species Act.

Dated: October 3, 2001.
Greg Thomsen,
Field Manager.

[FR Doc. 01-26692 Filed 10-19-01; 8:45 am]

BILLING CODE 4310-40-P